DEPARTMENT OF STATE

[Public Notice 4695]

Bureau of Educational and Cultural Affairs Request for Grant Proposals: Creative Arts Exchanges

SUMMARY: The Cultural Programs Division within the Office of Citizen Exchanges of the Bureau of Educational and Cultural Affairs (the Bureau) announces an open competition for the Creative Arts Exchanges Program. Public and private non-profit organizations meeting the provisions described in Internal Revenue Code section 26 U.S.C. 501(c)(3) may submit proposals for exchange programs that utilize the arts to educate foreign audiences about the United States and its foreign policy goals.

General Program Information

This competition is based on the premise that cultural exchanges will promote tolerance for pluralism in ideas, cultural values and peoples, and encourage other societies to implement democratic systems and practices. The goal of the projects submitted under this Request for Proposals will be to utilize the arts as a mechanism to engage youth and young adult audiences from diverse economic and social backgrounds. We are especially interested in reaching disadvantaged Muslim youth. Exchange activities funded under the Creative Arts Exchanges Program will address two questions:

1. How do artists and arts organizations in the United States reflect and exhibit American Society, including the principles of freedom of expression, entrepreneurship, altruism, volunteerism, philanthropy and community affiliation?

2. How do American artists convey, depict and represent these aspects of their society to citizens in other countries, and thereby inspire a better understanding of Americans, and promote democratic change?

The Cultural Programs Division within the Office of Citizen Exchanges welcomes proposals that directly respond to the thematic areas listed below. It is anticipated that approximately $1,200,000 will be available to support projects under this request for proposals. Competition for grant awards will be intense. The program office anticipates awarding approximately 5-6 grants. Public and private non-profit arts and educational organizations meeting the provisions described in Internal Revenue Code section 26 U.S.C. 501(c)(3) are eligible to apply for grants between $50,000—$300,000 to conduct a program within one or more of the thematic areas listed below.

Projects should focus on two-way, reciprocal exchanges of cultural and artistic professionals, unless otherwise specified. Proposals will be accepted for projects involving overseas countries within all six geographic regions designated by the Department of State: Africa, Europe and Eurasia, Near East and North Africa, East Asia and the Pacific, South Asia and the Western Hemisphere. However, the overseas partner country must have a significant Muslim population, except where other countries are explicitly listed for consideration under a specific theme. In Africa, we are particularly interested in projects with Burkina Faso, Mali, Nigeria, Senegal, Sudan and Tanzania. In the Near East and North Africa, we are specifically interested in exchange programs with the following countries: Morocco, Tunis, Algeria, Egypt, Syria, Jordan, Lebanon, West Bank/Gaza, Saudi Arabia, Yemen, Oman, Qatar, United Arab Emirates, Kuwait, Bahrain and Iraq. In the East Asia and Pacific Region we are especially interested in projects with Indonesia, Malaysia, Thailand, the Philippines, Brunei, Singapore and Cambodia. Please read the thematic subject delineations to ascertain if there are targeted geographic region(s) and/or specific countries for which we are particularly interested in receiving proposals. Applicants may contact the Cultural Programs Division at (202) 203-7488 for additional reference.

Each project should propose an innovative, informed and efficient plan to identify, recruit and/or audition, select and program participants. Proposals must contain a narrative description of the correlation between the project and one or more of the following public and foreign policy topics: conflict resolution, global heritage, cultural heritage and tourism, regional stability, democratization and freedom of expression in an open society.

Applicants may submit proposals that involve in depth multi-dimensional projects that concentrate on one of the themes listed below. Alternatively, exchange projects funded under this competition may also incorporate several, or all of these themes:

Arts Management

Projects submitted in response to this theme would be aimed at expanding the expertise of visual and performing arts administrators who are seeking to balance government and private sector funding. Additional topics would include the relevance of arts organizations to local communities, including questions of institutional outreach and educational programs, and the role of arts organizations in cultural heritage and tourism. Proposed projects that include particular geographic regions and countries will be rated more competitive under our first review criteria [listed in the following section of this document]. The targeted regions and countries are; East Asia and the Pacific, Near East and North Africa, and Eastern European and Central Asian countries with significant Muslim populations. This includes Cambodia, Indonesia, Malaysia, Singapore, Albania, Azerbaijan, Bosnia, Kyrgyz Republic, Tajikistan and Uzbekistan. The two-way exchange program should help arts administrators and directors of cultural institutions develop their skills and share best practices in the areas of marketing, audience expansion, financial management, volunteer training, staff-development and strategies for creating public/private partnerships with an emphasis on economic stability, community service and civic education. The program might be structured around reciprocal residencies, workshops and shadowing experiences.

Contemporary Dance Choreographers Exchange

Proposals are sought to coordinate the travel of professional American choreographers of contemporary/modern dance technique to countries with significant Muslim populations to work in higher educational institutes for the arts, and university or college settings, introducing young dancers to modern American choreography, interacting with Muslim youth and providing an alternative avenue for conflict resolution. Exchange programs could focus on modern, tap, jazz and/or the fusion of traditional and ethnic dance with contemporary choreography. Projects would provide opportunities for contemporary American choreographers to conduct 4-6 week reciprocal residencies at overseas educational institutions during which they would present lectures/demonstrations and workshops and create collaborative choreography pieces focused on dance as a form of free expression in a democratic society.

Music and/or Theater Education As A Conflict Resolution Tool

Proposals are sought which bridge political differences between countries and peoples, through two-way exchanges between U.S. music or theater institutions working with young musicians or actors, and music and theater artists and faculty from countries with majority/significant Muslim populations, including Israel. The project should include exchanges between music or theater establishments in order to promote collegiality friendship, understanding and basic human interaction between the students.

Under this theme, conflict resolution is defined as the implementation of peaceful, non-violent mediation and dispute resolution strategies to achieve mutual agreement among community and interest groups, political parties and nations. Project ideas will employee music and/or theater to illustrate and communicate peacemaking techniques including effective communication, critical thinking and problem solving.

Proposals should include strategies to expand the reach of the program by encouraging the U.S. and overseas participants to share the knowledge they gain from this project with their fellow performing artists and students. The projects should also build strong linkages and promote joint opportunities for the American and overseas musicians and actors to perform together, teach joint master classes and workshops, and increase their artistic skills.

Visual Artists Residency Program

Proposals are sought to support the travel and participation of young and emerging artists from countries with significant Muslim populations in individual and group residency programs at artists' colonies, summer institutes and residential workshops for visual artists. Projects should include opportunities for artists working in the full range of contemporary art making media. Residency programs may be limited to artists at the same or differing stages of professional development. Proposals are also sought for programs that contain reciprocal exchange components for U.S. curators and institutions to conduct workshops and colloquia on subjects in American art for young and emerging artists in countries with significant Muslim populations. Projects should provide opportunities for American curators and artists to present lectures, focused exhibitions, master classes and workshops during two to three week residencies at overseas universities, museums and art centers.

Film and the American Image—New Audiences, New Filmmakers

Projects proposed under this theme should provide a cultural outreach and exchange program designed to introduce audiences to diverse new works, develop relationships between international communities of artists and enrich the professional development of the participants. The goal of the program will be to expose young audiences, especially young Muslims, to films and filmmakers that illustrate various attributes of American society so that they have a better understanding of the openness and diversity that defines the United States. Projects which focus on artistic communities in Egypt, Jordan, Indonesia, Lebanon, Syria, Iran, Iraq, Turkey, Israel, Tajikistan, Uzbekistan, Afghanistan, Turkmenistan, Pakistan, and Kazakhstan, will be rated more competitive under Review Criteria #1. Programs should be designed to engage young audiences in the targeted countries. These exchanges will introduce America's most talented filmmakers to particular overseas countries, bring foreign counterparts to the United States and expose American and foreign audiences to each other's cultural and artistic traditions. The project objective will be to build linkages between foreign and American arts educational and cultural institutions. Proposals must include reciprocal exchanges of highly accomplished individuals or groups, resulting in linkages that promote joint projects during the grant period and continuing after the program ends.

Intellectual Property Rights for Artists

Projects under this theme should focus on increasing awareness among filmmakers, writers, composers, musicians, and other experts of the need to create mechanisms to protect against unauthorized replication and distribution of their cultural works. Featured topics of discussion will include the value of establishing an effective basis for creating such mechanisms in their own countries. Programs should include lectures and round table discussions on the importance of anti-piracy laws to protect each nation's cultural heritage as well as safeguard the individual property rights of its artists; the world wide trend toward harmonizing national laws governing copyright protection, the need for copyright safeguards to help foster cultural production; and the role of intellectual property rights enforcement in international trade. Programs also should include hands-on workshops to assist artists in less open societies in navigating the legislative systems in their countries in order to influence their governments to begin the process of adopting and enforcing good copyright laws. Proposals for projects under this I.P.R. theme will be accepted for projects including any or all of the following countries: Brazil, China, Egypt, Israel, Lebanon, Morocco and Russia. Proposals may include a film or visual or performing arts presentation as a component of the project.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Review Criteria

Technically eligible applications will be competitively reviewed according to the criteria stated below. These criteria are not rank ordered and all carry equal weight in the proposal evaluation:

1. Quality of the program idea: Proposals should exhibit originality, substance, innovation and precision. The program plan should state the relevance of a project to the U.S. Department of State's foreign policy goals. Program ideas should focus on the targeted world regions and countries that are listed at the beginning of the General Program Information Section and in several of the specific descriptions of each subject theme.

2. Program Plan: A detailed agenda and relevant work plan should demonstrate substantive undertakings and logistical capacity. Agenda and program plan should adhere to the program overview and guidelines described above. Projects should reflect creative, efficient and innovative planning. Program activities should engage young Muslim participants and audience members in the overseas partner countries.

3. Ability to achieve program objectives: Objectives should be reasonable, feasible, and flexible. Proposals should clearly demonstrate how the institution will meet the program's objectives and plan.

4. Multiplier effect/impact: Proposed programs should strengthen long-term mutual understanding, including maximum sharing of information and establishment.

5. Support of Diversity and Cross-Cultural Sensitivity: Proposals should demonstrate substantive support of the Bureau's policy on diversity. Achievable and relevant features should be cited in both program administration (selection of participants, program venue and program evaluation) and program content (orientation and wrap-up sessions, program meetings, resource materials and follow-up activities). Proposals should illustrate the applicant's mastery of strategies to achieve cross-cultural sensitivity.

6. Institutional Capacity and Record: Proposed personnel and institutional resources should be adequate and appropriate to achieve the program or project's goals.

7. Follow-on Activities: Proposals should provide a plan for continued follow-on activity (without Bureau support) ensuring that Bureau supported programs are not isolated events.

8. Monitoring and Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

9. Cost-effectiveness and Cost-sharing: The overhead and administrative components of the proposal, including salaries and honoraria, should be kept as low as possible. All other items should be necessary and appropriate.

10. Value to U.S.-Partner Country Relations: The U.S. Department of State's geographic cultural exchange coordinators and overseas Embassy officers will need to conduct an internal review of proposed projects to assess the need for the program, potential impact, and significance in the partner country(ies).

Ineligible Proposals

Projects based on other artistic objectives, or themes not previously listed, including performing arts tours, conferences, museum exchanges, independent film production, an individual artist's career development and programs focused on the creation of art, rather than the exchange of participants, will not be accepted. Proposals to present community or amateur arts groups will be declared technically ineligible under this competition.

Guidelines

Programs must comply with J-1 visa regulations. Please refer to Solicitation Package for further information.

Budget Guidelines

Grants awarded to eligible organizations with less than four years of experience in conducting international exchange programs will be limited to $60,000.

Applicants must submit a comprehensive budget for the entire program. It is anticipated that grant awards will range from $50,000 to $300,000. There must be a summary budget as well as breakdowns reflecting both administrative and program budgets. Applicants may provide separate sub-budgets for each program component, phase, location, or activity to provide clarification. Since Bureau grant assistance constitutes only a portion of total project funding, proposals should list and provide evidence of other anticipated sources of financial and in-kind support. Proposals that provide a minimum of 30 percent cost sharing of the amount of grant funds sought from ECA will be rated more competitive under Review Criteria #9.

When cost sharing is stated, it is understood and agreed that the applicant will provide the minimum amount of cost sharing listed in the project budget, and later included in an approved grant agreement. Cost sharing may be in the form of allowable direct or indirect costs. The basis for determining the value of cash and in-kind contributions must be in accordance with OMB Circular A-110, (Revised), Subpart C.23—Cost Sharing and Matching. In the event that a grantee does not provide the minimum amount of cost sharing as stipulated in the approved budget, ECA's contribution may be reduced proportionately to the contribution.

Allowable costs for the program include the following:

(1) Travel costs. International and domestic airfares; visas, transit costs; ground transportation costs. Please note that all air travel must be in compliance with the Fly America Act. There is no charge for J-1 visas for participants in Bureau sponsored programs.

(2) Per Diem. For the U.S. program, organizations have the option of using a flat $160/day for program participants or the published U.S. Federal per diem rates for individual American cities. For activities outside the U.S. the published Federal per diem rates must be used.

(3) Book and Cultural Allowance: Foreign participants are entitled to a one-time cultural allowance of $150 per person, plus a participant book allowance of $50.

(4) Consultants. Consultants may be used to provide specialized expertise, design or manage development projects or to make presentations. Honoraria generally do not exceed $250 per day.

(5) Health Insurance. Foreign participants will be covered under the terms of a U.S. Department of State-sponsored health insurance policy. The premium is paid by the U.S. Department of State directly to the insurance company. Applicants are permitted to include costs for travel insurance for U.S. participants in the budget.

(6) Administrative Costs. Costs necessary for the effective administration of the program may include salaries for grant organization employees, benefits and other direct or indirect costs per detailed instructions in the Solicitation Package.

Please refer to the Solicitation Package for complete budget guidelines and formatting instructions.

Announcement Title and Number: All correspondence with the Bureau concerning this RFGP should reference the above title and number: ECA/PE/C/CU-04-16.

FOR FURTHER INFORMATION CONTACT: The Cultural Programs Division, ECA/PE/C/CU, Room 568, U.S. Department of State, SA-44, 301 4th Street, SW., Washington, DC 20547, (202) 619-4779, to request a Solicitation Package. The Solicitation Package contains detailed award criteria, required application forms, specific budget instructions, and standard guidelines for proposal preparation. Please specify Bureau Program Officer, Jill Staggs, on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

New OMB Requirement

An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals: Important Note: The deadline for this competition is Thursday, May 20, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 12 copies of the application should be sent to:

U.S. Department of State, SA-44, Bureau of Educational and Cultural Affairs, Ref.: ECA/PE/C/CU-04-16, Program Management, ECA/EX/PM, Room 534, 301 4th Street, SW., Washington, DC 20547.

Applicants must also submit the “Executive Summary” and “Proposal Narrative” sections of the proposal in text (.txt) format on a PC-formatted disk. The Bureau will provide these files electronically to the Public Affairs Officers at the U.S. embassies for their review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Pub. L. 104-319 provides that “in carrying out programs of educational and cultural exchange in countries whose people do not fully enjoy freedom and democracy,” the Bureau “shall take appropriate steps to provide opportunities for participation in such programs to human rights and democracy leaders of such countries.” Pub. L. 106-113 requires that the governments of the countries described above do not have inappropriate influence in the selection process. Proposals should reflect advancement of these goals in their program contents, to the full extent deemed feasible.

Adherence to All Regulations Governing the J Visa

The Office of Citizen Exchanges of the Bureau of Educational and Cultural Affairs is the official program sponsor of the exchange program covered under this sole source solicitation, and an employee of the Bureau will be the “Responsible Officer” for the program under the terms of 22 CFR 62, which covers the administration of the Exchange Visitor Program (J visa program). Under the terms of 22CFR 62, the Silk Road Project, inc. will be a third party “cooperating with or assisting the sponsor in the conduct of the sponsor's program.” The actions of grantee program organizations shall be “imputed to the sponsor in evaluating the sponsor's compliance with” 22 CFR 62. Therefore, the Bureau expects that any organization receiving a grant under this competition will render all assistance necessary to enable the Bureau to full comply with 22 CFR 62 et seq. The Bureau of Educational and Cultural Affairs places great emphasis on the secure and proper administration of Exchange Visitor (J visa) Programs and adherence by grantee organizations and program participants to all regulations governing the J visa program status. Therefore, proposals should explicitly state in writing that the applicant is prepared to assist the Bureau in meeting all requirements governing the administration of Exchange Visitor Programs as set forth in 22 CFR 62. If the applicant has experience as a designated Exchange Visitor Program Sponsor, the applicant should discuss their record of compliance with 22 CFR 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance award grants resides with the Bureau's Grants Officer.

Authority: Overall grant making authority for this program is contained in the Mutual Educational and Cultural Exchange Act of 1961, Pub. L. 87-256, as amended, also known as the Fulbright-Hays Act. The purpose of the Act is “to enable the Government of the United States to increase mutual understanding between the people of the United States and the people of other countries; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 14, 2004.
C. Miller Crouch,
Principal Deputy Assistant Secretary, Bureau of Educational and Cultural Affairs, Department of State.

[FR Doc. 04-9167 Filed 4-21-04; 8:45 am]

BILLING CODE 4710-05-P